DEPARTMENT OF COMMERCE

International Trade Administration

[A-583-844]

Narrow Woven Ribbons With Woven Selvedge From Taiwan; Final Results of Antidumping Duty Administrative Review; 2013-2014

AGENCY: Enforcement and Compliance, International Trade Administration, Department of Commerce.

SUMMARY: On October 7, 2015, the Department of Commerce (the Department) published the Preliminary Results of the fourth administrative review of the antidumping duty (AD) order on narrow woven ribbons with woven selvedge (NWR) from Taiwan.¹ The review covers two producers/exporters of the subject merchandise, Roung Shu Industry Corporation (Roung Shu) and A-Madeus Textile Ltd. (A-Madeus). The period of review (POR) is September 1, 2013, through August 31, 2014. We gave interested parties an opportunity to comment on the Preliminary Results and, based upon our analysis of the comments, we continue to find that sales of subject merchandise to the United States have been made at prices below normal value (NV). The final dumping margins for the reviewed companies are listed below in the section entitled “Final Results of the Review.”

¹ See Narrow Woven Ribbons With Woven Selvedge from Taiwan; Preliminary Results of Antidumping Duty Administrative Review; 2013-2014, 80 FR 60627 (October 7, 2015) (Preliminary Results).

DATES: Effective Date: April 18, 2016.

FOR FURTHER INFORMATION CONTACT: David Crespo or Alice Maldonado, AD/CVD Operations, Office II, Enforcement and Compliance, International Trade Administration, U.S. Department of Commerce, 14th Street and Constitution Avenue NW., Washington, DC 20230; telephone: (202) 482-3693 and (202) 482-4682, respectively.

SUPPLEMENTARY INFORMATION:

Background

On October 7, 2015, the Department published the Preliminary Results in the Federal Register. In November 2015, we received a case brief from A-Madeus and a rebuttal brief from the petitioners.²

² The petitioners in this case are Berwick Offray LLC and its wholly-owned subsidiary, Lion Ribbon Company, Inc.

On February 3, 2016, the Department postponed the final results by 60 days.3 4 The Department conducted this administrative review in accordance with section 751 of the Tariff Act of 1930, as amended (the Act).

³ See the February 3, 2016, memorandum to Gary Taverman, Associate Deputy Assistant Secretary for Antidumping and Countervailing Duty Operations through Melissa G. Skinner, Director, Office II from David Crespo, Senior International Trade Compliance Analyst, entitled “Narrow Woven Ribbons with Woven Selvedge from Taiwan: Extension of Deadline for Final Results of Antidumping Duty Administrative Review.”

⁴ On January 27, 2016, the Department exercised its discretion to toll all administrative deadlines due to the recent closure of the Federal Government. All deadlines in this segment of the proceeding have been extended by four business days. Therefore, the revised deadline for the final results of this review is now April 11, 2016. See Memorandum to the Record from Ron Lorentzen, Acting Assistant Secretary for Enforcement and Compliance, entitled, “Tolling of Administrative Deadlines as a Result of the Government Closure during Snowstorm “Jonas” (January 27, 2016).

Scope of the Order

The merchandise subject to this order ⁵ covers narrow woven ribbons with woven selvedge. The merchandise subject to this order is classifiable under the harmonized tariff schedule of the United States (HTSUS) statistical categories 5806.32.1020; 5806.32.1030; 5806.32.1050 and 5806.32.1060. Subject merchandise also may enter under subheadings 5806.31.00; 5806.32.20; 5806.39.20; 5806.39.30; 5808.90.00; 5810.91.00; 5810.99.90; 5903.90.10; 5903.90.25; 5907.00.60; and 5907.00.80 and under statistical categories 5806.32.1080; 5810.92.9080; 5903.90.3090; and 6307.90.9889. The HTSUS statistical categories and subheadings are provided for convenience and customs purposes; however, the written description of the merchandise covered by this order is dispositive.⁶

⁵ See Narrow Woven Ribbons With Woven Selvedge From Taiwan and the People's Republic of China: Amended Antidumping Duty Orders, 75 FR 56982 (Sept. 17, 2010) (Order).

⁶ For a complete description of the scope of the order, see the memorandum from Gary Taverman, Associate Deputy Assistant Secretary for Antidumping and Countervailing Duty Operations, to Paul Piquado, Assistant Secretary for Enforcement and Compliance, entitled, “Issues and Decision Memorandum for the Final Results of the Antidumping Duty Administrative Review on Narrow Woven Ribbons with Woven Selvedge from Taiwan (Issues and Decision Memorandum), dated concurrently with and hereby adopted by this notice.

Analysis of Comments Received

All issues raised in the case and rebuttal briefs are addressed in the Issues and Decision Memorandum. A list of the issues which parties raised and to which we respond in the Issues and Decision Memorandum is attached to this notice as Appendix I. The Issues and Decision Memorandum is a public document and is on file electronically via Enforcement and Compliance's AD and Countervailing Duty (CVD) Centralized Electronic Service System (ACCESS). ACCESS is available to registered users at http://access.trade.gov and in the Central Records Unit, room B8024 of the main Department of Commerce building. In addition, a complete version of the Issues and Decision Memorandum can be accessed directly at http://enforcement.trade.gov/frn/index.html. The signed Issues and Decision Memorandum and the electronic version of the Issues and Decision Memorandum are identical in content.

Changes Since the Preliminary Results

Based on a review of the record and our analysis of the comments received, we made no changes to the margin calculations for Roung Shu or to the rate assigned to A-Madeus in these final results. For further discussion, see the Issues and Decision Memorandum.

Period of Review

The POR is September 1, 2013, through August 31, 2014.

Final Results of the Review

We are assigning the following weighted-average dumping margins to the firms listed below:

Producer/exporter | Dumping margin (percent)
Roung Shu Industry Corporation | 0.00
A-Madeus Textile Ltd | 30.64

Assessment Rates

Pursuant to section 751(a)(2)(C) of the Act, and 19 CFR 351.212(b)(1), the Department has determined, and U.S. Customs and Border Protection (CBP) shall assess, antidumping duties on all appropriate entries of subject merchandise and deposits of estimated duties, where applicable, in accordance with the final results of this review. The Department intends to issue appropriate assessment instructions directly to CBP 15 days after publication of the final results of this administrative review.

Pursuant to the Final Modification for Reviews,⁷ because Roung Shu's weighted-average dumping margin is zero, we will instruct CBP to liquidate the appropriate entries without regard to antidumping duties,⁸ pursuant to 19 CFR 351.106(c)(2).

⁷ See Antidumping Proceedings: Calculation of the Weighted-Average Dumping Margin and Assessment Rate in Certain Antidumping Duty Proceedings; Final Modification, 77 FR 8101 (February 14, 2012) (Final Modification for Reviews).

⁸ Id., 77 FR at 8102.

For A-Madeus, we will base the assessment rate assigned to the corresponding entries on the margin listed above, using the same methodology stated in the Preliminary Results.

Cash Deposit Requirements

The following deposit requirements will be effective upon publication of the notice of final results of administrative review for all shipments of the subject merchandise entered, or withdrawn from warehouse, for consumption on or after the date of publication, as provided by section 751(a)(2)(C) of the Act: (1) The cash deposit rates for Roung Shu and A-Madeus will be equal to the dumping margins established in the final results of this administrative review (except, if the rate is zero or de minimis, a zero cash deposit rate will be required for that company); (2) for merchandise exported by manufacturers or exporters not covered in this administrative review but covered in a prior segment of the proceeding, the cash deposit rate will continue to be the company-specific rate published for the most recently-completed segment; (3) if the exporter is not a firm covered in this review, a prior review, or the original less-than-fair-value (LTFV) investigation, but the manufacturer is, the cash deposit rate will be the rate established for the most recently-completed segment of this proceeding for the manufacturer of the merchandise; and (4) the cash deposit rate for all other manufacturers or exporters will continue to be 4.37 percent, the all-others rate determined in the LTFV investigation.⁹ These cash deposit requirements, when imposed, shall remain in effect until further notice.

⁹ See Order, 75 FR 56985.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with section 751(a)(1) and 777(i)(1) of the Act.

Dated: April 11, 2016.
Paul Piquado,
Assistant Secretary for Enforcement and Compliance.

Appendix I—List of Topics Discussed in the Issues and Decision Memorandum

1. Summary

2. Background

3. Margin Calculations

4. Scope of the Order

5. Discussion of the Issues

a. The Assigned Rate to A-Madeus

6. Recommendation

[FR Doc. 2016-08904 Filed 4-15-16; 8:45 am]

BILLING CODE 3510-DS-P